OFFICE OF PERSONNEL MANAGEMENT

5 CFR Part 532

RIN 3206-AM84

Prevailing Rate Systems; Redefinition of the Clayton-Cobb-Fulton, Georgia, Nonappropriated Fund Federal Wage System Wage Area

AGENCY: U.S. Office of Personnel Management.

ACTION: Interim rule with request for comments.

SUMMARY: The U.S. Office of Personnel Management (OPM) is issuing an interim rule to redefine the Clayton-Cobb-Fulton, GA, nonappropriated fund (NAF) Federal Wage System (FWS) wage area by removing Clarke, Clayton, and Fulton Counties, GA, from the wage area definition. The name of the wage area will be Cobb, GA. These changes are necessary because by the end of October 2013 there will no longer be NAF employment in Clarke, Clayton, and Fulton Counties. In addition, this interim rule updates the name of the Columbus Consolidated Government in the Columbus NAF wage area to Columbus.

DATES: Effective date: This regulation is effective on May 21, 2013. We must receive comments on or before June 20, 2013.

ADDRESSES: You may submit comments, identified by “RIN 3206-AM84,” using any of the following methods:

Federal eRulemaking Portal: http://www.regulations.gov. Follow the instructions for submitting comments.

Mail: Jeanne Jacobson, Acting Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: The Clayton-Cobb-Fulton, GA, NAF FWS wage area is presently composed of three survey area counties (Clayton, Cobb, and Fulton Counties, GA) and three area of application counties (Bartow, Clarke, and DeKalb Counties, GA). The Department of Defense (DOD) requested that OPM remove Clarke, Clayton, and Fulton Counties, GA, from the wage area definition and change the Clayton-Cobb-Fulton, GA, wage area's name to Cobb, GA. These changes are necessary because the September 2011 closures of the Navy Supply School in Clarke County and of Fort McPherson in Fulton County will leave these two counties with no NAF employment. In addition, the Army and Air Force Exchange Service—Southeast Distribution Center, the wage area's current host installation, will cease operations in October 2013, leaving Clayton County without NAF employment. Under 5 U.S.C. 5343(a)(1)(B)(i), NAF wage areas “shall not extend beyond the immediate locality in which the particular prevailing rate employees are employed.” Therefore, Clarke, Clayton, and Fulton Counties should not be defined as part of an NAF wage area.

The Cobb wage area will consist of one survey county (Cobb County) and two area of application counties (Bartow and DeKalb Counties). Host installation responsibility for the June 2013 full-scale survey has been reassigned to Dobbins Air Reserve Base in Cobb County. DOD reports that there are 109 NAF FWS employees remaining in the Cobb wage area.

These changes will be effective for the next full-scale wage survey in the Cobb wage area, which is scheduled to begin on June 10, 2013. Any employees in the current Clayton-Fulton-Cobb wage area will be paid from the new Cobb wage schedule beginning on August 17, 2013, the effective date of the new Cobb wage schedule—the same date a new Clayton-Fulton-Cobb wage schedule would have become effective. The Federal Prevailing Rate Advisory Committee, the national labor-management committee responsible for advising OPM on matters concerning the pay of FWS employees, has reviewed and recommended these changes by consensus.

Correction

In addition, this interim rule updates the name of the Columbus Consolidated Government in the Columbus, GA, NAF FWS wage area because Columbus is the official name of the entity resulting from the consolidation of the City of Columbus and Muscogee County in 1971.

Waiver of Notice of Proposed Rulemaking and Delay in Effective Date

Pursuant to 5 U.S.C. 553(b)(3)(B) and (d)(3), I find that good cause exists to waive the general notice of proposed rulemaking. Also pursuant to 5 U.S.C. 553(d)(3), I find that good cause exists for making this rule effective in less than 30 days. This notice is being waived and the regulation is being made effective in less than 30 days because the cessation of operations in Clayton and Fulton Counties, two of the three current survey counties, will leave these two counties without NAF employment. Under law and regulation, Clayton and Fulton Counties should no longer be defined as part of an NAF wage area. This change is urgent because the next scheduled wage survey in the wage area will occur in June 2013, and the lead agency must begin planning and coordination phases for the survey as soon as possible.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Elaine Kaplan,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix B to Subpart B of Part 532—[Amended]

2. In appendix B to subpart B of part 532, under the State of Georgia, revise the wage area entry “Clayton-Cobb-Fulton” to read “Cobb.”

3. In appendix D to subpart B of part 532, under the State of Georgia, revise the wage area listings for the Clayton-Cobb-Fulton and Columbus wage areas to read as follows:

Appendix D to Subpart B of Part 532—Nonappropriated Fund Wage and Survey Areas

* * * * *
GEORGIA
* * * * *
Cobb
Survey Area
Georgia:
Cobb
Area of application. Survey area plus:
Georgia:
Bartow
De Kalb
Columbus
Survey Area
Georgia:
Columbus
Area of application. Survey area plus:
Georgia:
Chattahoochee
* * * * *

[FR Doc. 2013-12063 Filed 5-20-13; 8:45 am]

BILLING CODE 6325-39-P